DEPARTMENT OF ENERGY

Federal Energy Regulatory Commission

[Project No. 4784-081]

Teton Power Funding, LLC; Topsham Hydro Partners Limited Partnership; Topsham Hydroelectric Generating Facility Trust No. 1; Brown Bear Power, LLC; Notice of Application for Partial Transfer of License, and Soliciting Comments and Motions To Intervene

On March 9, 2011, Teton Power Funding, LLC (transferor), Topsham Hydro Partners Limited Partnership, Topsham Hydroelectric Generating Facility Trust No. 1 (co-licensees) and Brown Bear Power, LLC (transferee) filed an application for the partial transfer of license for the Pejepscot Project No. 4784, located on the Androscoggin River in Sagadahoc, Cumberland, and Androscoggin counties, Maine.

Applicants seek Commission approval to partial transfer of the license for the Pejescot Project from the transferor to transferee.

Applicants' Contact: Transferor: Teton Power Funding, LLC: Paul Rapisarda, c/o Atlantic Power Corporation, 200 Clarendon Street, 25th Floor, Boston, MA 02116, (617) 977-2491. Co-licensees: Topsham Hydroelectric Generating Facility Trust No. 1: Nicole Poole, Topsham Hydroelectric Generating Facilities Trust No. 1, c/o U.S. Bank National Association, not in its individual capacity, but solely as Owner Trustee, 300 Delaware Avenue, 9th floor, Wilmington, DE 19801, (302) 576-3704. Topsham Hydro Partners Limited Partnership: Christine M. Miller, Brown Bear GP, LLC, c/o ArcLight Capital Partners, LLC, 200 Clarendon Street, 55th Floor, Boston, MA 02117, (617) 531-6338. Transferee: Christine M. Miller, Brown Bear Power, LLC, c/o ArcLight Capital Partners, LLC, 200 Clarendon Street, 55th Floor, Boston, MA 02117, (617) 531-6338.

FERC Contact: Patricia W. Gillis (202) 502-8735, patricia.gillis@ferc.gov.

Deadline for filing comments and motions to intervene: 20 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street, NE., Washington, DC 20426. More information about this project can be viewed or printed on the eLibrary link of Commission's Web site at http://www.ferc.gov/docs-filing/elibrary.asp. Enter the docket number (P-4784) in the docket number field to access the document. For assistance, call toll-free 1-866-208-3372.

Dated: March 17, 2011.
Kimberly D. Bose,
Secretary.

[FR Doc. 2011-7983 Filed 4-4-11; 8:45 am]

BILLING CODE 6717-01-P